DEPARTMENT OF COMMERCE

Foreign-Trade Zones Board

[B-42-2016]

Foreign-Trade Zone (FTZ) 158—Vicksburg/Jackson, Mississippi; Authorization of Production Activity; Southern Motion, Inc.; (Upholstered Furniture) Pontotoc and Baldwyn, Mississippi

On June 17, 2016, the Greater Mississippi Foreign-Trade Zone, Inc., grantee of FTZ 158, submitted a notification of proposed production activity to the FTZ Board on behalf of Southern Motion, Inc., within Subzone 158G, in Pontotoc and Baldwyn, Mississippi.

The notification was processed in accordance with the regulations of the FTZ Board (15 CFR part 400), including notice in the Federal Register inviting public comment (81 FR 42649-42650, June 30, 2016). The FTZ Board has determined that no further review of the activity is warranted at this time. The production activity described in the notification is authorized, subject to the FTZ Act and the Board's regulations, including Section 400.14. The activity also remains subject to the restrictions and conditions established under Docket B-45-2014.

Dated: October 17, 2016.
Elizabeth Whiteman,
Acting Executive Secretary.

[FR Doc. 2016-25432 Filed 10-19-16; 8:45 am]

BILLING CODE 3510-DS-P